DEPARTMENT OF COMMERCE

Foreign-Trade Zones Board

[B-08-2020]

Foreign-Trade Zone (FTZ) 277—Glendale, Arizona; Authorization of Production Activity; Andersen Regional Manufacturing, Inc. (Windows for Residential and Commercial Buildings), Goodyear, Arizona

On January 23, 2020, Andersen Regional Manufacturing, Inc. submitted a notification of proposed production activity to the FTZ Board for its facility within FTZ 277 in Goodyear, Arizona.

The notification was processed in accordance with the regulations of the FTZ Board (15 CFR part 400), including notice in the Federal Register inviting public comment (85 FR 9456, February 19, 2020). On May 22, 2020, the applicant was notified of the FTZ Board's decision that no further review of the activity is warranted at this time. The production activity described in the notification was authorized, subject to the FTZ Act and the FTZ Board's regulations, including Section 400.14.

Dated: May 22, 2020.
Elizabeth Whiteman,
Acting Executive Secretary.

[FR Doc. 2020-11456 Filed 5-27-20; 8:45 am]

BILLING CODE 3510-DS-P